DEPARTMENT OF LABOR

Employment and Training Administration

[TA-W-63,742]

FCI USA, Inc., Including On-Site Leased Workers From Accountemps, Novi, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 12, 2008, applicable to workers of FCI USA, Inc., Novi, Michigan. The notice was published in the Federal Register on August 29, 2008 (73 FR 51004).

At the request of the State agency, the Department reviewed the certification for workers of the subject firm. The workers supported production of electrical connectors that is produced at the Westland, Michigan location of the subject firm. The Westland, Michigan location was certified on June 11, 2007 (TA-W-61,612).

New information shows that leased workers of Accountemps were employed on-site at the Novi, Michigan location of FCI USA, Inc. Information also shows that the impact date was incorrectly stated as June 21, 2007 and should read July 21, 2007, one year back from the July 21, 2008 petition date.

The Department has determined that these workers were sufficiently under the control of the subject firm to be considered leased workers.

Based on these findings, the Department is amending this certification to include leased workers of Accountemps working on-site at the Novi, Michigan location of the subject firm and to correct the impact date to read July 21, 2007.

The intent of the Department's certification is to include all workers employed at FCI USA, Inc. who were adversely affected by a shift in production of electrical connectors to Mexico.

The amended notice applicable to TA-W-63,742 is hereby issued as follows:

All workers of FCI USA, Inc., including on-site leased workers from Accountemps, Novi, Michigan, who became totally or partially separated from employment on or after July 21, 2007, through August 12, 2010, are eligible to apply for adjustment assistance under Section 223 of the Trade Act of 1974, and are also eligible to apply for alternative trade adjustment assistance under Section 246 of the Trade Act of 1974.

Signed at Washington, DC this 15th day of October 2008.
Elliott S. Kushner,
Certifying Officer, Division of Trade Adjustment Assistance.

[FR Doc. E8-25462 Filed 10-24-08; 8:45 am]

BILLING CODE 4510-FN-P